OFFICE OF THE UNITED STATES TRADE REPRESENTATIVE

Notice of Product Exclusion Extensions: China's Acts, Policies, and Practices Related to Technology Transfer, Intellectual Property, and Innovation

AGENCY: Office of the United States Trade Representative (USTR).

ACTION: Notice.

SUMMARY: In prior notices, the U.S. Trade Representative modified the action in the Section 301 investigation of China's acts, policies, and practices related to technology transfer, intellectual property, and innovation by excluding from additional duties certain medical-care products needed to address the COVID-19 pandemic. The 99 exclusions for medical care products to address COVID-19 were published on December 29, 2020, and are scheduled to expire on November 14, 2021. On August 27, 2021, USTR requested comments on whether to extend the COVID exclusions. This notice announces the U.S. Trade Representative's determination to provide a 16-day transition period for all COVID exclusions (through November 30, 2021), and to extend 81 of the COVID exclusions for an additional 6 months.

DATES: To provide a transition period, this notice extends the 99 exclusions scheduled to expire on November 14, 2021, through November 30, 2021. Those exclusions receiving further extensions will expire six months after November 30, 20201, on May 31, 2022. U.S. Customs and Border Protection will issue instructions on entry guidance and implementation.

FOR FURTHER INFORMATION CONTACT: For general questions about this notice, contact Associate General Counsel Philip Butler or Assistant General Counsel Rachel Komito at (202) 395-5725. For specific questions on customs classification or implementation of the product exclusions, contact traderemedy@cbp.dhs.gov.

SUPPLEMENTARY INFORMATION:

A. Background

In the course of this investigation the U.S. Trade Representative imposed additional duties on products of China in four tranches. See 83 FR 28719 (June 20, 2018); 83 FR 40823 (August 16, 2018); 83 FR 47974 (September 21, 2018), as modified by 83 FR 49153 (September 28, 2018); and 84 FR 43304 (August 20, 2019), as modified by 84 FR 69447 (December 18, 2019) and 85 FR 3741 (January 22, 2020).

For each tranche, the U.S. Trade Representative established a process by which U.S. stakeholders could request the exclusion of particular products subject to the action. The U.S. Trade Representative later established a process by which U.S. stakeholders could request the extension of particular exclusions. Additionally, on March 25, 2020, the U.S. Trade Representative requested public comments on possible further modifications to remove Section 301 duties from medical-care products to address the COVID-19 pandemic. 85 FR 16987.

On December 29, 2020, USTR announced the extension of 80 product exclusions on medical-care and/or COVID response products; further modifications in the form of 19 product exclusions to remove Section 301 duties from additional medical-care and/or COVID response products; and that USTR might consider further extensions and/or modifications as appropriate. See 85 FR 85831 (the December 29 notice). On March 10, 2021, USTR announced the extension of these 99 exclusions until September 30, 2021, and that USTR might consider further extensions and/or modifications as appropriate. 86 FR 13785. On August 27, 2021, USTR published a notice requesting public comments on whether any of these exclusions should be further extended for up to six months. 86 FR 48280 (the August 27 notice). The August 27 notice stated that USTR would evaluate each exclusion on a case-by-case basis and the evaluation would examine whether the exclusion remains appropriate in light of recent developments including the spread of the Delta variant in the United States and increased domestic production of certain products, and taking account of the overall impact of these exclusions on the goal of obtaining the elimination of China's acts, policies, and practices covered in this Section 301 investigation.

On September 29, 2021, USTR announced the interim extension of these 99 exclusions through November 14, 2021, in order to provide time to review public comments submitted in response to the August 27 notice. 86 FR 54011.

B. Determination To Extend Certain Exclusions

Based on evaluation of the factors set out in in the August 27 notice, and pursuant to sections 301(b), 301(c), and 307(a) of the Trade Act of 1974, as amended, the U.S. Trade Representative has determined to extend certain product exclusions described in the December 29 notice for six months past the expiry of the remaining exclusions (until May 31, 2022), as set out in the annexes to this notice. The U.S. Trade Representative's determination considers public comments submitted in response to the August 27 notice, and the advice of advisory committees, the interagency Section 301 Committee, and the White House COVID-19 Response Team.

To provide a transition period for the expiring exclusions, the U.S. Trade Representative has determined to extend all 99 product exclusions described in the December 29 notice through November 30, 2021.

The exclusion extensions are available for any product that meets the description in the product exclusion. Further, the scope of each exclusion and modification is governed by the scope of the ten-digit Harmonized Tariff Schedule of the United States (HTSUS) subheadings and product descriptions in the annexes to this notice. U.S. Customs and Border Protection will issue instructions on entry guidance and implementation.

The U.S. Trade Representative may continue to consider further extensions and/or additional modifications as appropriate.

Greta Peisch,
General Counsel, Office of the United States Trade Representative.

BILLING CODE 3290-F2-P

[FR Doc. 2021-24918 Filed 11-15-21; 8:45 am]

BILLING CODE 3290-F2-C